DEPARTMENT OF ENERGY

Agency Information Collection Extension

AGENCY: Department of Energy.

ACTION: Submission for Office of Management and Budget review; comment request.

SUMMARY: The Department of Energy (DOE) has submitted an information collection package, 1910-0300, Environment, Safety and Health, to the Office of Management and Budget for extension under the Paperwork Reduction Act of 1995 (Pub. L. 104-13, 44 U.S.C. Chapter 35). This package contains information collections that are used by Departmental management to exercise management oversight and control over management and operating (M&O) contractors of DOE's government-owned contractor-operated (GOCO) facilities, offsite contractors, and the public. The contractor management oversight and control function concerns the ways in which DOE contractors provide goods and services for DOE organization and activities in accordance with the terms of their contracts; the applicable statutory, regulatory and mission support requirements of the Department; and regulations in the functional area covered by this package.

DATES: Comments must be filed on or before February 12, 2003. If you anticipate that you will be submitting comments, but find it difficult to do so within the period of time allowed by this notice, you should advise the OMB Desk Officer of your intention to do so as soon as possible. The Desk Officer may be telephoned at (202) 395-3087. (Also, please notify the DOE contact listed in this notice.)

ADDRESSES: Address comments to DOE Desk Officer, Office of Management and Budget, Office of Information and Regulatory Affairs (OIRA), Room 10102, New Executive Office Building, 725 17th Street, NW., Washington, DC 20503. (Comments should also be addressed to Susan L. Frey, Director, Records Management Division, Office of Business and Information Management, Office of the Chief Information Officer, IM-11/Germantown Bld., U.S. Department of Energy, 1000 Independence Ave, SW., Washington, DC 20585-1290.

SUPPLEMENTARY INFORMATION: (1) Title: Environment, Safety and Health; (2) Current OMB Control number: 1910-0300; (3) Summary: A three-year extension is requested which includes both mandatory and voluntary response obligations; (4) Purpose: This information is required by the Department to ensure that the Departmental environment, safety and health resources and requirements are managed efficiently and effectively and to exercise management oversight of DOE contractor; (5) Type of Respondents: DOE management and operating contractors and offsite contractors; (6) Estimated number of responses: 11,344; (7) Estimated total burden hours: 258,131.

Statutory Authority: Depart of Energy Organization Act, Public Law 92-01 Issued in Washington, DC, on January 7, 2003.

Susan L. Frey,
Director, Records Management Division, Office of Business and Information Management, Office of the Chief Information Officer.

[FR Doc. 03-583 Filed 1-10-03; 8:45 am]

BILLING CODE 6450-01-P